DEPARTMENT OF HOUSING AND URBAN DEVELOPMENT

[Docket No. FR-5484-N-19]

Notice of Proposed Information Collection, Comment Request; Office of Hospital Facilities Insured Mortgage Comprehensive Listing of Transactional Documents for Mortgagors, Mortgagees, Contractors and Their Agents

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: August 9, 2011.

ADDRESSES: Interested persons are invited to submit comments regarding this proposal. Comments should refer to the proposal by name and/or OMB Control Number and should be sent to: Reports Liaison Officer, Department of Housing and Urban Development, 451 7th Street, SW., Washington, DC 20410, Room 9120 or the number for the Federal Information Relay Service (1-800-877-8339).

FOR FURTHER INFORMATION CONTACT: Program Contact: James E. Bolinger, Director, Office of Hospital Facilities, Department of Housing and Urban Development, 451 7th Street, SW., Washington, DC 20410, telephone (202) 708-0599 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Comprehensive Transactional Documents for the Office of Hospital Facilities.

OMB Control Number, if applicable: 2502-XXXX (Collection not yet assigned).

Description of the need for the information and proposed use: The included documents are necessary for the application, review, commitment, administration, technical oversight, audit and initial/final endorsement of Office of Hospital Facilities projects pursuant to FHA Programs 242, 241, 223(f), 223(a)(7).

Agency form numbers, if applicable: FHA 2264, HUD Forms: 92434, 92451, 92530, 92580, 3305, 41901, 91725, 92010, 92013-Hosp, 92023, 92403, 92403.1, 92432, 92441, 92248, 92452, 92452-A, 92457, 92415, 2466-GP, 2466-Reg, 2576, 4128, HUD-2. 2330, 2330-a, 2415, 2450-CA, 2464, 9250, 92476.1, 2453. With the new collection all the above documents should have the suffix of: “OHF” (i.e. HUD 4128-OHF).

Estimation of the total numbers of hours needed to prepare the information collection including number of respondents, frequency of response, and hours of response: The number of burden hours is 5,957.5. The number of respondents is 1,165, the number of responses is 4,535, the frequency of response is on occasion, and the burden hour per response is approximately 1 hour.

Status of the proposed information collection: This is a new collection.

Authority: The Paperwork Reduction Act of 1995, 44 U.S.C., Chapter 35, as amended.

Dated: June 4, 2011.
Ronald Y. Spraker,
Associate General Deputy Assistant Secretary for Housing.

[FR Doc. 2011-14475 Filed 6-9-11; 8:45 am]

BILLING CODE 4210-67-P